FEDERAL COMMUNICATIONS COMMISSION

47 CFR Parts 11, 73, and 74

[MB Docket No. 17-105, MB Docket No. 20-401; Report No. 3213; FR ID 222907]

Petitions for Reconsideration of Action in Rulemaking Proceeding

AGENCY: Federal Communications Commission.

SUMMARY: Petitions for Reconsideration (Petitions) has been filed in the Commission's proceeding by Robert McAllan, on behalf of Press Communications, LLC and Michelle Bradley, on behalf of REC Networks.

DATES: Oppositions to the Petition must be filed on or before June 20, 2024. Replies to oppositions to the Petition must be filed on or before July 1, 2024.

ADDRESSES: Federal Communications Commission, 45 L Street NE, Washington, DC 20554.

FOR FURTHER INFORMATION CONTACT: Irene Bleiweiss, Irene.Bleiweiss@fcc.gov, or Albert Shuldiner, Albert.Shuldiner@fcc.gov, of the Media Bureau, Audio Division, (202) 418-2700.

SUPPLEMENTARY INFORMATION: This is a summary of the Commission's document, Report No. 3213, released May 23, 2024. The full text of the Petition can be accessed online via the Commission's Electronic Comment Filing System at: https://apps.fcc.gov/ecfs/. The Commission will not send a Congressional Review Act (CRA) submission to Congress or the Government Accountability Office pursuant to the CRA, 5 U.S.C. 801(a)(1)(A), because no rules are being adopted by the Commission.

Number of Petitions Filed: 2.

Federal Communications Commission.
Marlene Dortch,
Secretary, Office of the Secretary.

[FR Doc. 2024-12174 Filed 6-3-24; 8:45 am]

BILLING CODE 6712-01-P